DEPARTMENT OF THE INTERIOR

National Park Service

[NPS-WASO-NAGPRA-NPS0030810; PPWOCRADN0-PCU00RP14.R50000]

Notice of Inventory Completion: Department of Anthropology Museum at the University of California, Davis, Davis, CA: Correction

AGENCY: National Park Service, Interior.

ACTION: Notice; correction.

SUMMARY: The University of California, Davis (UC Davis) has corrected an inventory of human remains and associated funerary objects published in a Notice of Inventory Completion in the Federal Register on July 7, 2009. This notice corrects the minimum number of individuals and the number of associated funerary objects. Lineal descendants or representatives of any Indian Tribe or Native Hawaiian organization not identified in this notice that wish to request transfer of control of these human remains and associated funerary objects should submit a written request to UC Davis. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to UC Davis at the address in this notice by November 2, 2020.

ADDRESSES: Megon Noble, NAGPRA Project Manager, University of California, Davis, 412 Mrak Hall, One Shields Avenue, Davis, CA 95616, telephone (530) 752-8501, email mnoble@ucdavis.edu.

FOR FURTHER INFORMATION CONTACT: Megon Noble, NAGPRA Project Manager, University of California, Davis, 412 Mrak Hall, One Shields Avenue, Davis, CA 95616, telephone (530) 752-8501, email mnoble@ucdavis.edu.

SUPPLEMENTARY INFORMATION: Notice is here given in accordance with the Native American Graves Protection and Repatriation Act (NAGPRA), 25 U.S.C. 3003, of the correction of an inventory of human remains and associated funerary objects under the control of the University of California, Davis, Davis, CA. The human remains and associated funerary objects were removed from Lake County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and the number of associated funerary objects published in a Notice of Inventory Completion in the Federal Register (74 FR 32182-32183, July 7, 2009). Additional human remains were newly identified after review of faunal collections. In addition, human remains from CA-LAK-152 previously identified as culturally unidentifiable were re-evaluated in consultation with Indian Tribes and were determined to be culturally affiliated. Based on both consultation and a review of the original field records, additional associated funerary objects were identified. Transfer of control of the items in this correction notice has not occurred.

Correction

In the Federal Register of July 7, 2009, in FR Doc. E9-16017, on page 32182, make the following corrections:

1. On page 32182, in the third column, first paragraph, correct the first sentence to read:

In 1971-1973, human remains representing a minimum of three individuals were removed from CA-LAK-152, Lake County, CA, by the University of California, Davis archeological field school.

2. On page 32182, in the third column, first paragraph, correct the fifth sentence to read:

The 208 associated funerary objects are one obsidian biface, seven lots of non-human faunal bone, four lots of charcoal, 119 clamshell disc beads, two lots of debitage, seven lots of burned pine nut fragments, two firecracked groundstone fragments, 57 Olivella shell beads, seven tabular stones, and two lots of obsidian flakes. (104 clamshell disc beads are currently missing from the collection).

3. On page 32182, in the third column, correct the second paragraph to read:

Based on burial context and site characteristics, the human remains described above from Lake County are determined to be Native American. The burials from the site are dated to approximately A.D. 1520-1770 (Phase 2 of the Late Period), based on the antiquity of the associated funerary objects. Historical, archeological, anthropological and linguistic evidence demonstrate a relationship of shared group identity between the human remains and associated funerary objects described here and the Patwin Tribes.

4. On page 32182, in the third column, third paragraph, correct the fifth sentence to read:

The 353 associated funerary objects are 39 clam shell disc beads and bead fragments, 295 historic glass beads and bead fragments, one bone bead fragment, one Gunther barbed point, one historic copper ring, four unmodified pebbles, three shell fragments, three obsidian projectile points, one calcined bone (previously identified as a possible stone bead fragment), and five pieces of incised bird bone that may be from a whistle or ear tube.

In the Federal Register of July 7, 2009, in FR Doc. E9-16017, on page 32183, make the following correction:

1. On page 32183, in the first column, second paragraph, correct the first two sentences to read:

Officials of the University of California, Davis have determined that, pursuant to 25 U.S.C. 3001 (9-10), the human remains described above represent the physical remains of four individuals of Native American ancestry. Officials of the University of California, Davis also have determined that, pursuant to 25 U.S.C. 3001 (3) (A), the 561 objects described above are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Megon Noble, NAGPRA Project Manager, University of California, Davis, 412 Mrak Hall, One Shields Avenue, Davis, CA 95616, telephone (530)752-8501 email mnoble@ucdavis.edu, by November 2, 2020. After that date, if no additional requestors have come forward, transfer of control of the human remains and associated funerary objects to the Cachil DeHe Band of Wintun Indians of the Colusa Indian Community of the Colusa Rancheria, California; Kletsel Dehe Band of Wintun Indians (previously listed as Cortina Indian Rancheria and the Cortina Indian Rancheria of Wintun Indians of California); and the Yocha Dehe Wintun Nation, California (previously listed as Rumsey Indian Rancheria of Wintun Indians of California), hereafter referred to as “The Tribes,” may proceed.

The University of California, Davis is responsible for notifying The Tribes that this notice has been published.

Dated: August 24, 2020.
Melanie O'Brien,
Manager, National NAGPRA Program.

[FR Doc. 2020-21693 Filed 10-1-20; 8:45 am]

BILLING CODE 4312-52-P